GENERAL SERVICES ADMINISTRATION

41 CFR Part 301-10

[FTR Amendment 2008-01; Docket 2008-0002, Sequence 1]

RIN 3090-AI43

Federal Travel Regulation (FTR); FTR Case 2007-307; Fly America Act; United States and European Union “Open Skies” Air Transport Agreement (U.S.-EU Open Skies Agreement)

AGENCY: Office of Governmentwide Policy (MTT), General Services Administration (GSA).

ACTION: Proposed rule.

SUMMARY: The GSA is proposing to amend the Federal Travel Regulation (FTR) provisions pertaining to the use of United States Flag air carriers under the provisions of the “Fly America Act.” This proposed rule would incorporate language based on the United States and European Union “Open Skies” Air Transport Agreement (U.S.-EU Open Skies Agreement).

DATES: Comments must be received on or before April 3, 2008.

ADDRESSES: Submit comments identified by FTR case 2007-307 by any of the following methods:

• Federal eRulemaking Portal: http://www.regulations.gov. Search for any document by first selecting the proper document types and selecting “General Services Administration—All” as the agency of choice. At the “Keyword” prompt, type in the FTR case number (for example, FTR Case 2007-307) and click on the “Submit” button. You may also search for any document by clicking on the “Advanced search/document search” tab at the top of the screen, selecting from the agency field “General Services Administration—All”, and typing the FTR case number in the keyword field. Select the “Submit” button.

• Fax: 202-501-4067.

• Mail: General Services Administration, Regulatory Secretariat (VPR), Attn: Diedra Wingate, 1800 F Street, NW., Room 4035, Washington, DC 20405.

Instructions: Please submit comments only and cite FTR case 2007-307 in all correspondence related to this case. All comments received will be posted without change to http://www.regulations.gov, including any personal information provided.

FOR FURTHER INFORMATION CONTACT: For clarification of content, contact Ms. Umeki Thorne, Office of Travel, Transportation and Asset Management (MT), General Services Administration at (202) 208-7636 or e-mail at umeki.thorne@gsa.gov. For information pertaining to status or publication schedules, contact the Regulatory Secretariat (VPR), Room 4035, GS Building, Washington, DC 20405, (202) 501-4755. Please cite FTR case 2007-307.

SUPPLEMENTARY INFORMATION: On April 30, 2007, the United States European Union “Open Skies” Air Transport Agreement (U.S.-EU Open Skies Agreement) was signed, providing Community airlines (airlines of the European Community and its Member States) the right to transport passengers and cargo on scheduled and charter flights for U.S. Government procured transportation other than transportation obtained or funded by the Department of Defense, subject to certain conditions. Specifically, Community airlines have the right to transport passengers and cargo on scheduled and charter flights funded by the U.S. Government, including transportation provided to or for a foreign country or international or other organization without reimbursement, when the transportation is between a point in the United States and any point in a Member State or between any two points outside the United States except when:

(1) Transportation is between points for which there is a city-pair contract fare in effect for air passenger transportation services, or

(2) Transportation is obtained or funded by the Secretary of Defense or the Secretary of a military department.

The Federal Travel Regulation (FTR), section 301-10.135(b) (41 CFR 301-10.135(b)) includes an exception to the use of U.S. flag air carrier service when the transportation is provided under a bilateral or multilateral air transportation agreement to which the U.S. Government and the government of a foreign country are parties, and which the Department of Transportation has determined meets the requirements of the Fly America Act. As the U.S.-EU Open Skies Agreement is such an air transportation agreement, this proposed rule would incorporate text into 41 CFR 301-10.135(b) to reflect the content of the U.S.-EU Open Skies Agreement which allows Government-funded travel on Community airlines subject to certain conditions.

The U.S.-EU Open Skies Air Transport Agreement, including the provision relating to U.S. Government procured transportation, has a provisional application date of March 30, 2008. No regulatory action is required to implement the provision addressing U.S. Government Procured Transportation since the Agreement meets the requirements of 49 U.S.C. 40118(b), and the FTR includes a provision referencing that statutory provision at 41 CFR 301-10.135(b). GSA is issuing this proposed rule to ensure notice advising of the U.S. Government procured transportation provisions in the U.S.-EU Open Skies Agreement and the upcoming effective date, and GSA is requesting comments on the proposed rule for use in developing the final rule to be included in the FTR with the objective of making the final rule easy to apply and a readily available source of information relating to the provisions on U.S. Government procured transportation included in the Agreement. A listing of the Member States as found in the U.S.-EU Open Skies Agreement may be accessed via the Department of State's Web site at http://www.state.gov/e/eeb/rls/othr/2007/84475.htm.

B. Executive Order 12866

This proposed rule is not a significant regulatory action and, therefore, was not subject to review under Section 6(b) of Executive Order 12866, Regulatory Planning and Review, dated September 30, 1993. This proposed rule is not a major rule under 5 U.S.C. 804.

C. Regulatory Flexibility Act

This proposed rule is not required to be published in the Federal Register for notice and comment therefore, the Regulatory Flexibility Act, 5 U.S.C. 601, et seq., does not apply.

D. Paperwork Reduction Act

The Paperwork Reduction Act does not apply because the proposed changes to the FTR do not impose recordkeeping or information collection requirements, or the collection of information from offerors, contractors, or members of the public that require the approval of the Office of Management and Budget (OMB) under 44 U.S.C. 3501, et seq.

E. Small Business Regulatory Enforcement Fairness Act

This proposed rule is also exempt from congressional review prescribed under 5 U.S.C. 801 since it relates to agency management and personnel.

List of Subjects in 41 CFR Part 301-10

Government employees, Travel and transportation expenses.

Dated: December 7, 2007.
Kevin Messner,
Acting Associate Administrator.

For the reasons set forth in the preamble, it is proposed that 41 CFR Chapter 301 be amended to read as follows:

PART 301-10—TRANSPORTATION ALLOWABLE

1. The authority citation for 41 CFR part 301-10 continues to read as follows:

Authority: 5 U.S.C. 5707; 40 U.S.C. 486(c); 49 U.S.C. 40118.

2. Amend § 301-10.135, by revising paragraph (b) to read as follows:

§ 301-10.135 When must I travel using U.S. Flag air carrier service?

* * * * *

(b) The transportation is provided under a bilateral or multilateral air transportation agreement to which the United States Government and the government of a foreign country are parties, and which the Department of Transportation has determined meets the requirements of the Fly America Act.

(1) United States-European Union Open Skies Agreement: Under this Agreement, community airlines have the right to transport passengers on scheduled and charter flights funded by the U.S. Government, including transportation provided to or for a foreign country or international or other organization without reimbursement, when the transportation is between a point in the United States and any point in a Member State or between any two points outside the United States except when:

(i) Transportation is between points for which there is a city-pair contract fare in effect for air passenger transportation services, or

(ii) Transportation is obtained or funded by the Secretary of Defense or the Secretary of a military department;

(2) A listing of the Member States as found in the U.S.-EU Open Skies Agreement may be accessed via the Department of State's Web site at http://www.state.gov/e/eeb/rls/othr/2007/84475.htm; or

* * * * *

[FR Doc. E8-3970 Filed 3-3-08; 8:45 am]

BILLING CODE 6820-14-P